SMALL BUSINESS ADMINISTRATION

Data Collection Available for Public Comments

ACTION: 60-Day notice and request for comments

SUMMARY: The Small Business Administration (SBA) intends to request approval, from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before February 18, 2025

ADDRESSES: Send all comments to, Office of Veterans Business Development, Amy Garcia, amy.garcia@sba.gov, Small Business Administration.

FOR FURTHER INFORMATION CONTACT: Amy Garcia, Veterans Business Analyst, Office of Veterans, amy.garcia@sba.gov 202-205-7526, or Curtis B. Rich, Agency Clearance Officer curtis.rich@sba.gov 202-205-7030.

SUPPLEMENTARY INFORMATION: This voluntary collection form enables the program office to assess both the quality of the Boots to Business courses and outcomes achieved by participants after attending Boots to Business. The data will be used for overall program management, continuous improvement initiatives, and reporting outcomes to better serve veteran entrepreneurs. Information used for reporting will be done in the aggregate and will not include Personally Identifiable Information (PII).

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

PRA Number: 3245-0390.

Title: Boots to Business Post Course Surveys.

Description of Respondents: Boots to Business Program Participants.

Form Number: None.

Total Estimated Annual Responses: 10,000.

Total Estimated Annual Hour Burden: 27 hours.

Curtis B. Rich,
Agency Clearance Officer.

[FR Doc. 2024-29863 Filed 12-17-24; 8:45 am]

BILLING CODE 8026-09-P